DEPARTMENT OF THE TREASURY

Bureau of Alcohol, Tobacco and Firearms

[Docket No. 921; ATF 0 1130.10]

Delegation Order—Delegation of the Director's Authorities in 27 CFR Part 25, Beer

To: All Bureau Supervisors

1. Purpose. This order delegates certain authorities of the Director to subordinate ATF officials and prescribes the subordinate ATF officials with whom persons file documents which are not ATF forms.

2. Background. Under current regulations, the Director has authority to take final action on matters relating to beer. The Bureau has determined that certain of these authorities should, in the interest of efficiency, be delegated to a lower organizational level.

3. Cancellation. ATF O 1100.99B, Delegation Order—Delegation to the Associate Director (Compliance Operations) of Authorities of the Director in 27 CFR Part 25, Beer, is cancelled.

4. Delegations. Under the authority vested in the Director, Bureau of Alcohol, Tobacco and Firearms, by Treasury Department Order No. 120-01 (formerly 221), dated June 6, 1972, and by 26 CFR 301.7701-9, this ATF order delegates certain authorities to take final action prescribed in 27 CFR Part 25 to subordinate officials. Also, this ATF order prescribes the subordinate officials with whom applications, notices, and reports required by 27 CFR Part 25, which are not ATF forms, are filed. The attached table identifies the regulatory sections, authorities and documents to be filed, and the authorized ATF officials. The authorities in the table may not be redelegated. An ATF organization chart showing the directorates involved in this delegation order has been attached.

5. Questions. If you have questions about this ATF order, contact the Regulations Division (202-927-8210).

Bradley A. Buckles,
Director.

Table of Authorities, Documents To Be Filed, and Authorized Officials
Regulatory section | Officers authorized to act or to receive document
§ 25.3(a) | Chief, Regulations Division.
§ 25.22 | Director of Industry Operations.
§ 25.23(b) | Chief, Regulations Division.
§ 25.23(c) | Section Chief, National Revenue Center (NRC), upon recommendation of Area Supervisor.
§ 25.24(a)(7) | Area Supervisor.
§ 25.25(a) | Section Chief, NRC, upon recommendation of Area Supervisor.
§ 25.31 | Inspector, Specialist or Special Agent.
§ 25.42(a) | Inspector, Specialist or Special Agent.
§ 25.42(c) | Area Supervisor.
§ 25.51 | Inspector, Specialist and Special Agent to inspect. Area Supervisor to assign officers.
§ 25.52(a)(1), (3), (4) and (5) | Chief, Regulations Division. If alternate method or procedure does not affect an ATF approved formula, or import or export recordkeeping, Chief, NRC, may act upon the same method or procedure that has been approved by the Chief, Regulations Division.
§ 25.52(a)(2) | Chief, Regulations Division.
§ 25.52(b)(1) | Area Supervisor.
§ 25.52(b)(2) and (3) | Director of Industry Operations.
§ 25.52(d) | For alternate method or procedure, Chief, Regulations Division. If alternate method or procedure does not affect an ATF approved formula, or import or export recordkeeping, Chief, NRC, may act upon the same method or procedure that has been approved by the Chief, Regulations Division. For emergency variation, Director of Industry Operations.
§ 25.61(a) | Section Chief, NRC, upon recommendation of Area Supervisor.
§ 25.61(c)(1) | Area Supervisor or Unit Supervisor, NRC.
§ 25.63 | Section Chief, NRC, upon recommendation of Area Supervisor, to affix the signature of the Director.
§ 25.64 | Inspector, Specialist or Special Agent.
§ 25.66(c) | Area Supervisor, Unit Supervisor, NRC, or Technical Section Supervisor.
§ 25.66(d) | Inspector, Specialist or Special Agent.
§ 25.68(b) | Inspector, Specialist or Special Agent.
§ 25.71(a)(2) and (b)(1) | Area Supervisor or Section Chief, NRC.
§ 25.72(b)(2) | Section Chief, NRC.
§ 25.74 | Section Chief, NRC.
§ 25.75 | Section Chief, NRC, upon recommendation of Area Supervisor.
§ 25.77 | For notice (ATF F 5130.10), Section Chief, NRC, upon recommendation of Area Supervisor, to affix the signature of the Director. For bond and consent of surety, Section Chief, NRC.
§ 25.81(c) | Area Supervisor.
§ 25.81(e) | Area Supervisor.
§ 25.85 | Section Chief, NRC, upon recommendation of the Area Supervisor, to affix the signature of the Director.
§ 25.91(c) and (d) | Section Chief, NRC.
§ 25.95 | Section Chief, NRC.
§ 25.96 | Section Chief, NRC.
§ 25.101(a) | Section Chief, NRC.
§ 25.101(b) | Assistant Director (Alcohol and Tobacco).
§ 25.103 | Section Chief, NRC.
§ 25.104 | Section Chief, NRC.
§ 25.105 | Section Chief, NRC.
§ 25.114(a) | Section Chief, NRC.
§ 25.127 | Inspector, Specialist or Special Agent.
§ 25.141(b)(2) | Inspector, Specialist or Special Agent to make determination. Chief, Alcohol Labeling and Formulation Branch to receive notice.
§ 25.142(b)(2) | Inspector, Specialist or Special Agent to make determination. Chief, Alcohol Labeling and Formulation Branch to receive notice.
§ 25.142(c) | Specialist, Alcohol Labeling and Formulation Division.
§ 25.144(b) | Area Supervisor.
§ 25.152(a) | Section Chief, NRC.
§ 25.155 | Specialist, Alcohol Labeling and Formulation Division.
§ 25.158(c) | Section Chief, NRC.
§ 25.165(b)(1) and (3), and (e) | Section Chief, NRC.
§ 25.167(a) | Section Chief, NRC.
§ 25.173(a) | Section Chief, NRC.
§ 25.182 | Area Supervisor.
§ 25.184(d) | Area Supervisor.
§ 25.196(b) | Area Supervisor.
§ 25.213(b) | Area Supervisor.
§ 25.213(c) | Inspector, Specialist or Special Agent.
§ 25.222(a) and (b) | Area Supervisor.
§ 25.223(a) | Area Supervisor.
§ 25.223(b) | Area Supervisor to require ATF officer to verify, to delay destruction and to impose conditions. Inspector, Specialist and Special Agent to verify.
§ 25.225(b)(2) | Area Supervisor.
§ 25.251(c) | Inspector, Specialist or Special Agent.
§ 25.252(c) | Inspector, Specialist or Special Agent.
§ 25.272(a) | Section Chief, NRC.
§ 25.272(b) | Area Supervisor or Unit Supervisor, NRC.
§ 25.272(c), (d) and (e) | Section Chief, NRC, upon recommendation of Area Supervisor.
§ 25.273 | Section Chief, NRC, upon recommendation of Area Supervisor, to approve application. Inspector, Specialist or Special Agent to inspect.
§ 25.274(a) | Section Chief, NRC.
§ 25.276(c) | Area Supervisor to prescribe records. Inspector, Specialist or Special Agent to inspect.
§ 25.277 | Section Chief, NRC.
§ 25.281(c) | Unit Supervisor, NRC.
§ 25.282(b) | Unit Supervisor, NRC.
§ 25.282(c) | Area Supervisor or Unit Supervisor, NRC.
§ 25.282(d) | Unit Supervisor, NRC.
§ 25.282(e) | Area Supervisor.
§ 25.282(f) | Area Supervisor or Unit Supervisor, NRC.
§ 25.283(d) | Area Supervisor or Unit Supervisor, NRC.
§ 25.284(b) | Area Supervisor.
§ 25.284(d) | Unit Supervisor, NRC.
§ 25.291(c)(2)(ii) | Inspector, Specialist or Special Agent.
§ 25.291(d)(3) | Area Supervisor.
§ 25.294(c) | Inspector, Specialist or Special Agent.
§ 25.297(b)(4) | Area Supervisor or Unit Supervisor, NRC.
§ 25.300(a) | Inspector, Specialist or Special Agent.
§ 25.300(c) | Director of Industry Operations.
§ 25.300(d)(3) | Inspector, Specialist or Special Agent 2.

BILLING CODE 5810-31-P

[FR Doc. 01-16815 Filed 7-3-01; 8:45 am]

BILLING CODE 5810-31-C